SECURITIES AND EXCHANGE COMMISSION

Sunshine Act Meeting

Federal Register citation of previous announcement: [to be published]

Status: Closed meeting.

Place: 450 Fifth Street, NW., Washington, DC.

Date Previously Announced: September 6, 2001.

Change in the Meeting: Time change.

The closed meeting scheduled for Tuesday, September 11, 2001 at 10 a.m. time has been changed to Tuesday, September 11, 2001, at 9:30 a.m.

At times, changes in Commission priorities require alterations in the scheduling of meeting items. For further information and to ascertain what, if any, matters have been added, deleted or postponed, please contact:

The Office of the Secretary (202) 942-7070.

Dated: September 10, 2001.
Jonathan G. Katz,
Secretary.

[FR Doc. 01-22979 Filed 9-10-01; 12:03 pm]

BILLING CODE 8010-01-M